DEPARTMENT OF COMMERCE

National Oceanic and Atmospheric Administration

[I.D. 072000D]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting via conference call of the Red Drum Stock Assessment Panel (RDSAP).

DATES: This meeting will be via conference call on August 14, 2000 beginning at 10:00 a.m. EST.

ADDRESSES: A listening station will be available at the following location: NMFS Southeast Regional Office, 9721 Executive Center Drive, North, St. Petersburg, FL 33702, Contact: Georgia Cranmore at 727-570-5305.

Council address: Gulf of Mexico Fishery Management Council, 3018 U.S. Highway 301 North, Suite 1000, Tampa, FL 33619.

FOR FURTHER INFORMATION CONTACT: Peter Hood, Fishery Biologist, Gulf of Mexico Fishery Management Council; telephone: 813-228-2815.

SUPPLEMENTARY INFORMATION: The RDSAP will be convened via conference call on August 14, 2000 beginning at 10:00 a.m. EST. At the request of the Council, the RDSAP was asked to recommend how research needs listed in the RDSAP's most recent final report be accomplished, including cost estimates and a timeline for completion. Research needs included: 1) the age composition of the adults in offshore waters needs to be known, 2) the absolute abundance of adult red drum in the Gulf of Mexico needs to be accurately measured, 3) random sampling of the commercial and recreational catches for age composition data is needed, 4) standardized stock assessment methodology needs to be developed that can accept area (state)-specific data and work with these within the context of a Gulf-wide stock assessment, 5) the area (state)-specific contributions of red drum to the offshore adult stock needs to be determined, 6) angler-release and shrimp-trawl bycatch mortality and the ages or lengths of caught-and-released fish needs to be determined, and 7) the length composition of the commercial catch needs to be measured.

The recommendations of the RDSAP will be reviewed by the Council at its next meeting held from September 11 to 14, 2000 in Mobile, AL.

Currently it is illegal to harvest or possess red drum in Federal waters.

A copy of the agenda can be obtained by contacting the Council (see ADDRESSES).

Although other non-emergency issues not on the agenda may come before the RDSAP for discussion, in accordance with the Magnuson-Stevens Fishery Conservation and Management Act, those issues may not be the subject of formal action during this meeting. Actions of the RDSAP will be restricted to those issues specifically identified in the agenda and any issues arising after publication of this notice that require emergency action under section 305(c) of the Magnuson-Stevens Act, provided the public has been notified of the Council's intent to take action to address the emergency.

The listening station is physically accessible to people with disabilities. Requests for sign language interpretation or other auxiliary aids should be directed to Anne Alford at the Council (see ADDRESSES) by August 7, 2000.

Dated: July 24, 2000.
Richard W. Surdi,
Acting Director, Office of Sustainable Fisheries, National Marine Fisheries Service.

[FR Doc. 00-19278 Filed 7-28-00; 8:45 am]

BILLING CODE 3510-22-F